NUCLEAR REGULATORY COMMISSION

[NRC-2012-0037]

WORKSHOP Sponsored by the Nuclear Regulatory Commission and the Electric Power Research Institute on the Treatment of Probabilistic Risk Assessment Uncertainties: Public Meeting

AGENCY: U.S. Nuclear Regulatory Commission.

ACTION: Notice of public meeting.

SUMMARY: The U.S. Nuclear Regulatory Commission (NRC), Office of Nuclear Regulatory Research (RES), in cooperation with the Electric Power Research Institute (EPRI), will hold a joint workshop on the Treatment of Probabilistic Risk Assessment (PRA) Uncertainties. Since 2002, RES and EPRI, under a Memorandum of Understanding (MOU) on Cooperative Nuclear Safety Research, have been developing state-of-the-art methods for conduct of PRA.

The purpose of the workshop is to bring together experts to gain a better understanding of the sources of uncertainty, how they manifest in the PRA, and their potential significance to the PRA model and results. More specifically, the workshop will address uncertainties associated with risk assessments for internal fires, seismic events, low power and shutdown (LPSD) conditions, and for the Level 2 portion of PRAs.

DATES: Wednesday, February 29, 2012 (8:30 a.m.-5 p.m.);

Thursday, March 1, 2012 (8:30 a.m.—12:30 p.m.)

ADDRESSES: The Legacy Hotel & Meeting Centre; 1775 Rockville Pike; Rockville, Maryland 20852.

Meeting Agenda: The agenda for this meeting can be accessed at http://www.nrc.gov/public-involve/public-meetings/index.cfm.

Because of limited available space, attendees are asked to pre-register (there is not a registration fee) as soon as possible. There will be the ability to call-in to the workshop. Please contact Matt Dennis, Sandia National Laboratories, at 505-284-0781, email: mldenni@sandia.gov to register and to obtain the call-in phone line number.

FOR FURTHER INFORMATION CONTACT: Mary T. Drouin, Sr. Program Manager, Performance and Reliability Branch, Division of Risk Analysis, Office of Nuclear Regulatory Research, United States Nuclear Regulatory Commission, Tel: 301-251-7574, Email: Mary.Drouin@nrc.gov.

Conduct of the Meeting

This meeting is a Category 3 meeting.* The public is invited to participate in this meeting by providing comments and asking questions throughout the meeting. Please note this workshop is being conducted in a classroom format; registration is required to ensure space availability.

* Meetings between the NRC technical staff and external stakeholders are open for interested members of the public, petitioners, interveners, or other parties to attend as observers pursuant to Commission policy statement, “Enhancing Public Participation in NRC Meetings,” (67 FR 36920; May 28, 2002).

The NRC provides reasonable accommodation to individuals with disabilities where appropriate. If you need a reasonable accommodation to participate in this workshop, or need the workshop notice or agenda in another format (e.g., Braille, large print), please notify the NRC is meeting contact. Determinations on requests for reasonable accommodation will be made on a case-by-case basis.

Dated at Rockville, Maryland, this 8th day of February, 2012.
For the Nuclear Regulatory Commission.
Kevin A. Coyne,
Branch Chief, Probability Probabilistic Risk Assessment Branch, Division of Risk Analysis, Office of Nuclear Regulatory Research.

[FR Doc. 2012-3677 Filed 2-15-12; 8:45 am]

BILLING CODE 7590-01-P